DEPARTMENT OF TRANSPORTATION

Federal Aviation Administration

14 CFR Part 39

[Docket No. FAA-2021-0300; Project Identifier MCAI-2020-01077-R; Amendment 39-21511; AD 2021-08-17]

RIN 2120-AA64

Airworthiness Directives; Airbus Helicopters

AGENCY: Federal Aviation Administration (FAA), (DOT).

ACTION: Final rule; request for comments.

SUMMARY: The FAA is adopting a new airworthiness directive (AD) for Airbus Helicopters Model AS332L2 helicopters. This AD was prompted by the discovery of a main gearbox (MGB) with worn ramps and broken roller cages. This AD requires installing a placard on the pilot instrument panel and replacing certain MGBs. The FAA is issuing this AD to address the unsafe condition on these products.

DATES: This AD becomes effective May 12, 2021.

The Director of the Federal Register approved the incorporation by reference of a certain document listed in this AD as of May 12, 2021.

The FAA must receive comments on this AD by June 11, 2021.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

For service information identified in this final rule, contact Airbus Helicopters, 2701 N Forum Drive, Grand Prairie, TX 75052; telephone 972-641-0000 or 800-232-0323; fax 972-641-3775; or at https://www.airbus.com/helicopters/services/technical-support.html. You may view the referenced service information at the FAA, Office of the Regional Counsel, Southwest Region, 10101 Hillwood Pkwy., Room 6N-321, Fort Worth, TX 76177. It is also available on the internet at https://www.regulations.gov by searching for and locating Docket No. FAA-2021-0300.

Examining the AD Docket

You may examine the AD docket on the internet at https://www.regulations.gov by searching for and locating Docket No. FAA-2021-0300; or in person at Docket Operations between 9 a.m. and 5 p.m., Monday through Friday, except Federal holidays. The AD docket contains this AD, the European Union Aviation Safety Agency (EASA) AD, any service information that is incorporated by reference, any comments received, and other information. The street address for Docket Operations is listed above. Comments will be available in the AD docket shortly after receipt.

FOR FURTHER INFORMATION CONTACT: Rao Edupuganti, Aerospace Engineer, Dynamic Systems Section, Technical Innovation Policy Branch, Policy & Innovation Division, FAA, 10101 Hillwood Pkwy., Fort Worth, TX 76177; telephone 817-222-5110; email rao.edupuganti@faa.gov.

SUPPLEMENTARY INFORMATION:

Background

EASA, which is the Technical Agent for the Member States of the European Union, issued EASA AD 2020-0141R1, dated July 30, 2020 (EASA AD 2020-0141R1) to correct an unsafe condition for Airbus Helicopters (formerly Eurocopter France, Aerospatiale) Model AS 332 L2 helicopters. EASA AD 2020-0141R1 advises that, during an overhaul of a Model EC 225 LP helicopter with an MGB part number (P/N) 332A323001.XX equipped with main reduction gear module P/N 332A323011.XX in post-modification (mod) 07-53016 configuration, where XX represents any number, wear was detected on ramps and roller cages. Mod 07-53016 corresponds to free wheel shaft P/N 332A322191.20. EASA states that an investigation is currently ongoing to determine the root cause of the occurrence and that Model AS 332 L2 helicopters could be affected by the same failure mechanism due to design similarity. According to EASA, this condition, if not corrected, could lead to reduced capacity to transfer one engine inoperative (OEI) power by the right engine following an in-flight shut down of the left engine, resulting in reduced control of the helicopter.

EASA further states that Airbus Helicopters issued service information to provide instructions to introduce operational restrictions regarding training flights involving OEI and replacement of the affected MGB in order to allow Airbus Helicopters to accomplish a one-time wear inspection of the free wheel shaft. Consequently, EASA issued an AD to require an operational limitation for OEI training flights by installing placards and to require replacing the MGB if it has a right free wheel shaft P/N 332A322191.20. EASA revised its original AD and issued EASA AD 2020-0141R1 after Airbus Helicopters issued a change to its service information to clarify the wording of the operational limitation in the placard. EASA states that EASA AD 2020-0141R1 is considered an interim action and that further AD action may follow.

FAA's Determination

These helicopters have been approved by EASA and are approved for operation in the United States. Pursuant to the FAA's bilateral agreement with the European Union, EASA has notified the FAA of the unsafe condition described in its AD. The FAA is issuing this AD because the agency has determined the unsafe condition described previously is likely to exist or develop in other products of the same type design.

Related Service Information Under 1 CFR Part 51

The FAA reviewed Airbus Helicopters Alert Service Bulletin AS332-01.00.95, Revision 1, dated July 29, 2020, which specifies procedures to create and install a placard to prohibit the use of the ENG1 “TRAINING IDLE” switch in flight. This service information also specifies removing the MGB, sending it to the manufacturer, and replacing it with a serviceable MGB.

This service information is reasonably available because the interested parties have access to it through their normal course of business or by the means identified in the ADDRESSES section.

AD Requirements

This AD applies to Model AS332L2 helicopters with a certain MGB installed and requires within 50 hours time-in-service (TIS), installing a placard on the instrument panel to prohibit use of the ENG1 “TRAINING IDLE” switch. The placard may be removed if the MGB is replaced with a MGB that does not have a certain free wheel shaft installed. This AD also requires replacing the MGB with an airworthy MGB before it accumulates 1,000 hours TIS or within 50 hours TIS after the effective date of the AD, whichever occurs later.

This AD also prohibits installing certain MGBs unless the free wheel shaft has accumulated less than 1,000 total hours TIS.

Differences Between This AD and the EASA AD

The EASA AD requires reporting information to Airbus Helicopters and sending an affected MGB to Airbus Helicopters or an approved repair center, whereas this AD does not.

Interim Action

The FAA considers this AD to be an interim action. The investigation to determine the root cause of this unsafe condition is on-going. If final action is later identified, the FAA might consider further rulemaking then.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without seeking comment prior to the rulemaking. Further, section 553(d) of the APA authorizes agencies to make rules effective in less than thirty days, upon a finding of good cause.

There are no helicopters with this type certificate on the U.S. Registry and thus, it is unlikely that the FAA will receive any adverse comments or useful information about this AD from U.S. operators. Accordingly, notice and opportunity for prior public comment are unnecessary pursuant to 5 U.S.C. 553(b)(3)(B). In addition, for the reasons stated above, the FAA finds that good cause exists pursuant to 5 U.S.C. 553(d) for making this amendment effective in less than 30 days.

Comments Invited

The FAA invites you to send any written data, views, or arguments about this final rule. Send your comments to an address listed under ADDRESSES. Include “Docket No. FAA-2021-0300; Project Identifier MCAI-2020-01077-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Rao Edupuganti, Aerospace Engineer, Dynamic Systems Section, Technical Innovation Policy Branch, Policy & Innovation Division, FAA, 10101 Hillwood Pkwy., Fort Worth, TX 76177; telephone 817-222-5110; email rao.edupuganti@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

There are no costs of compliance with this AD because there are no helicopters of this type certificate on the U.S. Registry.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866, and

2. Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-08-17 Airbus Helicopters: Amendment 39-21511; Docket No. FAA-2021-0300; Project Identifier MCAI-2020-01077-R.

(a) Effective Date

This airworthiness directive (AD) is effective May 12, 2021.

(b) Affected ADs

None.

(c) Applicability

This AD applies to Airbus Helicopters Model AS332L2 helicopters with main gearbox (MGB) part number (P/N) 332A323001.XX with a main reduction gear module (module) P/N 332A323011.XX that has free wheel shaft P/N 332A322191.20 installed, where “XX” stands for any two digit dash number, certificated in any category.

Note 1 to paragraph (c): Free wheel shaft P/N 332A322191.20 is also referred to as modification 07-53016.

(d) Subject

Joint Aircraft Service Component (JASC) Code: 6320, Main Rotor Gearbox.

(e) Unsafe Condition

This AD defines the unsafe condition as wear on the ramps and roller cages of the MGB free wheel shaft. This condition could result in reduced one engine inoperative (OEI) power from by the right engine following an in-flight shut-down of the left engine, resulting in reduced control of the helicopter.

(f) Compliance

Comply with this AD within the compliance times specified, unless accomplished previously.

(g) Required Actions

(1) Within 50 hours time-in-service (TIS) after the effective date of this AD, install a placard on the instrument panel prohibiting use of the ENG1 “TRAINING IDLE” switch in accordance with Figure 3 of Airbus Helicopters Alert Service Bulletin AS332-01.00.95, Revision 1, dated July 29, 2020.

(2) Replace the MGB with an airworthy MGB at the following compliance time:

(i) If the free wheel shaft has accumulated less than 950 total hours TIS, before the free wheel shaft accumulates 1,000 total hours TIS; or

(ii) If the free wheel shaft has accumulated 950 or more total hours TIS, within 50 hours TIS after the effective date of this AD.

(3) As of the effective date of this AD, do not install a right free wheel shaft P/N 332A322191.20 on any helicopter unless the free wheel shaft has accumulated less than 1,000 total hours TIS.

(4) If you replace the MGB with a MGB that does not have free wheel shaft P/N 332A322191.20 installed, you may remove the placard required by paragraph (g)(1) of this AD.

(h) Alternative Methods of Compliance (AMOCs)

(1) The Manager, International Validation Branch, has the authority to approve AMOCs for this AD, if requested using the procedures found in 14 CFR 39.19. In accordance with 14 CFR 39.19, send your request to your principal inspector or local Flight Standards District Office, as appropriate. Information may be emailed to: 9-AVS-AIR-730-AMOC@faa.gov.

(2) Before using any approved AMOC, notify your appropriate principal inspector, or lacking a principal inspector, the manager of the local flight standards district office/certificate holding district office.

(i) Related Information

(1) For more information about this AD, contact Rao Edupuganti, Aviation Safety Engineer, Dynamic Systems Section, Technical Innovation Policy Branch, Policy & Innovation Division, FAA, 10101 Hillwood Pkwy., Fort Worth, TX 76177; telephone 817-222-5110; email rao.edupuganti@faa.gov.

(2) The subject of this AD is addressed in European Union Aviation Safety Agency (EASA) AD 2020-0141R1, dated July 30, 2020. You may view the EASA AD on the internet at https://www.regulations.gov by searching for and locating it in Docket No. FAA-2021-0300.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin AS332-01.00.95, Revision 1, dated July 29, 2020.

(ii) [Reserved]

(3) For service information identified in this AD, contact Airbus Helicopters, 2701 N Forum Drive, Grand Prairie, TX 75052; telephone 972-641-0000 or 800-232-0323; fax 972-641-3775; or at https://www.airbus.com/helicopters/services/technical-support.html.

(4) You may view this service information at FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on April 8, 2021.
Ross Landes,
Deputy Director for Regulatory Operations, Compliance & Airworthiness Division, Aircraft Certification Service.

[FR Doc. 2021-08568 Filed 4-26-21; 8:45 am]

BILLING CODE 4910-13-P